DEPARTMENT OF TRANSPORTATION

Federal Aviation Administration

14 CFR Part 71

[Docket No. FAA-2024-0157; Airspace Docket No. 23-ASO-32]

RIN 2120-AA66

Establishment and Amendment of Multiple United States Area Navigation (RNAV) Routes; and Revocation of RNAV Route T-204; Eastern United States

AGENCY: Federal Aviation Administration (FAA), DOT.

ACTION: Notice of proposed rulemaking (NPRM).

SUMMARY: This action proposes to establish United States Area Navigation (RNAV) Routes T-489, T-491, T-493, and T-495; amend RNAV Routes Q-102, T-210, T-336, T-341, and T-349; and revoke RNAV Route T-204 in the eastern United States. This action supports FAA Next Generation Air Transportation System (NextGen) efforts to provide a modern RNAV route structure to improve the safety and efficiency of the National Airspace System (NAS).

DATES: Comments must be received on or before April 15, 2024.

ADDRESSES: Send comments identified by FAA Docket No. FAA-2024-0157 and Airspace Docket No. 23-ASO-32 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the NAS as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA, 30337.

Incorporation by Reference

United States Area Navigation routes are published in paragraph 2006 and 6011 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

In March 2000, the Aircraft Owners and Pilots Association (AOPA) requested that the FAA take action to develop and chart Instrument Flight Rules (IFR) RNAV routes for use by aircraft having IFR-approved Global Positioning System (GPS) equipment. In response to the AOPA request, a cooperative effort was launched involving the FAA, AOPA, and the Government/Industry Aeronautical Charting Forum. This effort began with the development of RNAV routes to provide more direct routing for enroute IFR aircraft to transition through busy terminal airspace areas. As a result, the FAA established T-204 on December 22, 2005 (70 FR 66251; November 2, 2005) as an Area Navigation Instrument Flight Rules Terminal Transition Routes (RITTR). RITTR routes are low-altitude Air Traffic Service (ATS) routes, based on RNAV, for use by aircraft having IFR-approved GPS/Global Navigation Satellite System (GNSS) equipment. The purpose of RITTR routes is to expedite the handling of IFR overflight traffic through busy terminal airspace areas.

T-204 currently extends between the Taylor, FL (TAY), Very High Frequency Omnidirectional Range/Tactical Air Navigation (VORTAC) and the Brunswick, GA (SSI), VORTAC. T-204 is a west-east oriented RNAV route that is perpendicular to arrival and departure flows to or from the Jacksonville, FL, area. This orientation contributes to air traffic control (ATC) conflicts. To avoid conflicts with the arrival and departure flows from the north, ATC issues aircraft flying T-204 alternate routing through the Jacksonville, FL, area via RNAV Routes T-208, T-323, T-341, and T-437. Since alternate RNAV routes are regularly issued by ATC to overcome the conflicts noted previously, T-204 has become a seldom used route that is no longer required for RNAV-equipped aircraft to transition through the busy Jacksonville terminal airspace area.

The Proposal

The FAA is proposing an amendment to 14 CFR part 71 to establish RNAV Routes T-489, T-491, T-493, and T-495; amend RNAV Routes Q-102, T-210, T-336, T-341, and T-349; and revoke RNAV Route T-204 in the eastern United States. This action supports continued FAA NextGen efforts to provide a modern RNAV route structure that improves the efficiency of the NAS. The proposed RNAV route changes are described below.

Q-102: Q-102 currently extends between the Leeville, LA (LEV), VORTAC and the Cypress, FL (CYY), VOR/Distance Measuring Equipment (VOR/DME). The FAA proposes to remove the Cypress VOR/DME route point from the route and replace it with the FEMID, FL, waypoint (WP) to provide connectivity to the existing RNAV route structure at the FEMID WP. As amended, Q-102 would be changed to extend between the Leeville VORTAC and the FEMID WP.

T-204: T-204 currently extends between the Taylor, FL (TAY), VORTAC and the Brunswick, GA (SSI), VORTAC. The FAA proposes to remove the route in its entirety.

T-210: T-210 currently extends between the HADDE, FL, Fix, and the VARZE, FL, WP. The FAA proposes to extend T-210 to the west between the HADDE Fix and the MILLP, FL, Fix and to the south between the VARZE Fix and the WEZER, FL, WP. The proposed route extension to the west would provide RNAV connectivity to the Marianna, FL, area, and the route extension to the south would provide more efficient ATC clearances in the Lakeland, FL, area. As amended, the route would be changed to extend between the MILLP Fix and the WEZER WP.

T-336: T-336 currently extends between the TROYR, FL, WP and the VALKA, FL, Fix. The FAA proposes to extend T-336 to the northwest between the MILLP, FL, Fix and the TROYR WP. The route would overlay VOR Federal Airway V-521 between the Marianna, FL (MAI), VORTAC and the Cross City, FL (CTY), VORTAC. The proposed route extension would provide RNAV connectivity to the Marianna, FL, area. Additionally, the FAA proposes to change the TROYR WP name to the CCITY, FL, WP. As amended, the route would be changed to extend between the MILLP Fix and the VALKA Fix.

T-341: T-341 currently extends between the MEAGN, FL, WP and the MARQO, FL, WP. The FAA proposes to extend T-341 to the northeast between the MARQO WP and the FLRNS, SC, Fix. The proposed RNAV route extension would provide RNAV connectivity to the Florence, SC, area. Additionally, the FAA proposes to add the FEBRO, FL, WP between the CUSEK, FL, WP and the YELLZ, FL, WP to provide connectivity to RNAV Routes T-343 and T-353, and replace the WHOOU, FL, WP with the WALEE, FL, WP to provide connectivity to RNAV Route T-207. Lastly, the FAA proposes to remove the DULFN, FL, WP from the route description as it does not represent a turn point of one degree or more. As amended, the route would be changed to extend between the MEAGN WP and the FLRNS Fix.

T-349: T-349 currently extends between the VARZE, FL, WP and the TROYR, FL, WP. The FAA proposes to extend T-349 to the southeast from the VARZE WP to the NEWER, FL, Fix and to the northwest from the TROYR WP to the LYFEE, AL, WP. The proposed route would overlay VOR Federal Airway V-7 between the Wiregrass, AL (RRS), VORTAC and the Cross City, FL (CTY), VORTAC and provide RNAV connectivity between the Fort Lauderdale, FL and the Dothan, AL, areas. Additionally, the FAA proposes to remove the MILOW, FL, WP and the MURDE, FL, WP from the route description as those route points do not represent a turn point of one degree or more. Lastly, the FAA proposes to change the TROYR WP name to the CCITY, FL, WP. As amended, the route would be changed to extend between the NEWER Fix and the LYFEE WP.

T-489: T-489 is a new RNAV route proposed to extend between the BOLTS, FL, WP and the PCANN, GA, WP. The proposed route would overlay a portion of VOR Federal Airway V-35 between the ATTAK, FL, Fix and the PECAN, GA (PZD), VOR/DME and provide RNAV routing between the Tampa, FL, area and the Albany, GA, area.

T-491: T-491 is a new RNAV route proposed to extend between the BOLTS, FL, WP and the SIROC, GA, WP. The proposed route would provide RNAV routing between the Tampa, FL, area and the Brunswick, GA, area.

T-493: T-493 is a new RNAV route proposed to extend between the BOLTS, FL, WP and the DOOLY, GA, WP. The proposed route would provide RNAV routing between the Tampa, FL, area and the Macon, GA, area.

T-495: T-495 is a new RNAV route proposed to extend between the BOLTS, FL, WP, and the BWDEN, FL, Fix. The proposed route would provide RNAV routing between the Tampa, FL, area and the Tallahassee, FL, area.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2006 United States Area Navigation Routes.

* * * * *

Q-102 Leeville, LA (LEV) to FEMID, FL [Amended]
Leeville, LA (LEV) | VORTAC | (lat. 29°10′30.83″ N, long. 090°06′14.47″ W)
BLVNS, OG | WP | (lat. 28°22′56.19″ N, long. 088°02′02.98″ W)
BACCA, OG | WP | (lat. 27°35′30.53″ N, long. 085°20′39.60″ W)
BAGGS, OG | WP | (lat. 27°08′03.28″ N, long. 082°50′27.20″ W)
FEMID, FL | WP | (lat. 26°06′29.59″ N, long. 081°27′23.07″ W)

* * * * *

Paragraph 6011 United States Area Navigation Routes.

* * * * *

T-204 [Removed]

* * * * *

T-210 MILLP, FL to WEZER, FL [Amended]
MILLP, FL | FIX | (lat. 30°47′10.19″ N, long. 085°07′27.41″ W)
GRNVL, FL | FIX | (lat. 30°33′04.80″ N, long. 083°46′58.59″ W)
HADDE, FL | FIX | (lat. 30°31′54.46″ N, long. 083°13′50.21″ W)
MISSM, FL | WP | (lat. 30°27′28.15″ N, long. 082°36′32.24″ W)
OHLEE, FL | WP | (lat. 30°16′06.04″ N, long. 082°06′32.53″ W)
MMKAY, FL | WP | (lat. 29°41′55.42″ N, long. 081°26′49.15″ W)
KIZER, FL | FIX | (lat. 28°55′26.00″ N, long. 081°22′17.83″ W)
EMSEE, FL | WP | (lat. 28°50′43.72″ N, long. 081°32′47.03″ W)
DAIYL, FL | WP | (lat. 28°49′10.74″ N, long. 081°41′29.68″ W)
AKOJO, FL | WP | (lat. 28°45′44.01″ N, long. 081°43′31.54″ W)
PUNQU, FL | WP | (lat. 28°34′33.65″ N, long. 081°49′22.43″ W)
VARZE, FL | WP | (lat. 28°16′25.85″ N, long. 082°01′44.51″ W)
WEZER, FL | WP | (lat. 28°02′26.59″ N, long. 082°02′39.60″ W)

* * * * *

T-336 MILLP, FL to VALKA, FL [Amended]
MILLP, FL | FIX | (lat. 30°47′10.19″ N, long. 085°07′27.41″ W)
TERES, FL | FIX | (lat. 29°56′07.76″ N, long. 084°20′08.51″ W)
HEVVN, FL | FIX | (lat. 29°49′19.11″ N, long. 083°53′42.89″ W)
CCITY, FL | WP | (lat. 29°34′20.92″ N, long. 083°01′52.68″ W)
PUNQU, FL | WP | (lat. 28°34′33.65″ N, long. 081°49′22.43″ W)
YOJIX, FL | FIX | (lat. 28°02′44.04″ N, long. 081°33′45.34″ W)
ODDEL, FL | FIX | (lat. 28°05′45.51″ N, long. 081°10′10.24″ W)
DEARY, FL | FIX | (lat. 28°06′02.53″ N, long. 080°54′51.40″ W)
VALKA, FL | FIX | (lat. 27°55′06.06″ N, long. 080°34′17.17″ W)

* * * * *

T-341 MEAGN, FL to FLRNS, SC [Amended]
MEAGN, FL | WP | (lat. 26°14′17.20″ N, long. 080°47′23.64″ W)
ZAGPO, FL | WP | (lat. 26°23′47.41″ N, long. 080°57′25.83″ W)
CUSEK, FL | WP | (lat. 26°51′38.79″ N, long. 081°23′17.37″ W)
FEBRO, FL | WP | (lat. 27°37′02.08″ N, long. 081°47′07.68″ W)
YELLZ, FL | WP | (lat. 27°51′36.18″ N, long. 081°56′34.16″ W)
WEZER, FL | WP | (lat. 28°02′26.59″ N, long. 082°02′39.60″ W)
VARZE, FL | WP | (lat. 28°16′25.85″ N, long. 082°01′44.51″ W)
OMMNI, FL | WP | (lat. 28°51′29.29″ N, long. 082°09′41.75″ W)
WALEE, FL | WP | (lat. 29°41′36.05″ N, long. 082°14′07.07″ W)
MARQO, FL | WP | (lat. 30°30′53.57″ N, long. 082°32′45.62″ W)
TWEST, GA | FIX | (lat. 32°05′45.00″ N, long. 082°03′11.00″ W)
DURBE, SC | WP | (lat. 33°00′44.75″ N, long. 081°17′32.69″ W)
VANNC, SC | WP | (lat. 33°28′29.84″ N, long. 080°26′54.65″ W)
FLRNS, SC | FIX | (lat. 34°13′58.11″ N, long. 079°39′25.95″ W)

* * * * *

T-349 NEWER, FL to LYFEE, AL [Amended]
NEWER, FL | FIX | (lat. 26°13′54.98″ N, long. 080°37′05.49″ W)
GILBI, FL | FIX | (lat. 26°24′31.77″ N, long. 080°43′44.46″ W)
KNRAD, FL | FIX | (lat. 26°37′16.45″ N, long. 081°09′54.74″ W)
CUSEK, FL | WP | (lat. 26°51′38.79″ N, long. 081°23′17.37″ W)
QUNCY, FL | FIX | (lat. 27°02′13.01″ N, long. 081°38′18.21″ W)
FEBRO, FL | WP | (lat. 27°37′02.08″ N, long. 081°47′07.68″ W)
YELLZ, FL | WP | (lat. 27°51′36.18″ N, long. 081°56′34.16″ W)
WEZER, FL | WP | (lat. 28°02′26.59″ N, long. 082°02′39.60″ W)
VARZE, FL | WP | (lat. 28°16′25.85″ N, long. 082°01′44.51″ W)
CCITY, FL | WP | (lat. 29°34′20.92″ N, long. 083°01′52.68″ W)
LYFEE, AL | WP | (lat. 31°17′05.04″ N, long. 085°25′52.67″ W)

* * * * *

T-489 BOLTS, FL to PCANN, GA [New]
BOLTS, FL | WP | (lat. 28°11′15.93″ N, long. 082°52′21.14″ W)
ATTAK, FL | FIX | (lat. 28°36′46.38″ N, long. 082°49′30.78″ W)
NESST, FL | FIX | (lat. 28°59′10.29″ N, long. 082°54′02.10″ W)
CEDDI, FL | FIX | (lat. 29°17′10.66″ N, long. 082°58′22.44″ W)
CCITY, FL | WP | (lat. 29°34′20.92″ N, long. 083°01′52.68″ W)
GRNVL, FL | FIX | (lat. 30°33′04.80″ N, long. 083°46′58.59″ W)
PCANN, GA | WP | (lat. 31°39′18.97″ N, long. 084°17′35.80″ W)
T-491 BOLTS, FL to SIROC, GA [New]
BOLTS, FL | WP | (lat. 28°11′15.93″ N, long. 082°52′21.14″ W)
EXWAY, FL | FIX | (lat. 28°54′18.24″ N, long. 082°30′44.53″ W)
WALEE, FL | WP | (lat. 29°41′36.05″ N, long. 082°14′07.07″ W)
OHLEE, FL | WP | (lat. 30°16′06.04″ N, long. 082°06′32.53″ W)
SIROC, GA | WP | (lat. 31°03′02.32″ N, long. 081°26′45.89″ W)
T-493 BOLTS, FL to DOOLY, GA [New]
BOLTS, FL | WP | (lat. 28°11′15.93″ N, long. 082°52′21.14″ W)
CHAAZ, FL | FIX | (lat. 28°43′28.00″ N, long. 082°36′13.00″ W)
ORATE, FL | FIX | (lat. 29°20′25.53″ N, long. 082°52′48.84″ W)
CCITY, FL | WP | (lat. 29°34′20.92″ N, long. 083°01′52.68″ W)
VLDST, GA | FIX | (lat. 30°46′50.17″ N, long. 083°16′47.21″ W)
TIFFT, GA | FIX | (lat. 31°25′42.59″ N, long. 083°29′19.75″ W)
DOOLY, GA | WP | (lat. 32°12′48.02″ N, long. 083°29′50.66″ W)
T-495 BOLTS, FL to BWDEN, FL [New]
BOLTS, FL | WP | (lat. 28°11′15.93″ N, long. 082°52′21.14″ W)
ATTAK, FL | FIX | (lat. 28°36′46.38″ N, long. 082°49′30.78″ W)
NESST, FL | FIX | (lat. 28°59′10.29″ N, long. 082°54′02.10″ W)
DEANR, FL | WP | (lat. 29°15′30.40″ N, long. 083°03′30.24″ W)
BWDEN, FL | FIX | (lat. 30°33′21.90″ N, long. 084°22′25.85″ W)

* * * * *

Issued in Washington, DC, on February 21, 2024.
Frank Lias,
Manager, Rules and Regulations Group.

[FR Doc. 2024-04040 Filed 2-27-24; 8:45 am]

BILLING CODE 4910-13-P